SECURITIES AND EXCHANGE COMMISSION

Submission for OMB Review; Comment Request

Upon written request, copies available from: Securities and Exchange Commission, Office of Investor Education and Advocacy, Washington, DC 20549-0213.

Extension: Form 8-A; OMB Control No. 3235-0056; SEC File No. 270-54.

Notice is hereby given that, pursuant to the Paperwork Reduction Act of 1995 (44 U.S.C. 3501 et seq.), the Securities and Exchange Commission (“Commission”) has submitted to the Office of Management and Budget this request for extension of the previously approved collection of information discussed below.

Form 8-A (17 CFR 249.208a) is a registration statement used to register a class of securities under Sections 12(b) and 12(g) of the Securities Exchange Act of 1934 (15 U.S.C. 78l(b) and 78l(g))(“Exchange Act”). Section 12(a) (15 U.S.C. 78l(a) of the Exchange Act requires securities traded on a national exchange to be registered under the Exchange Act (15 U.S.C. 78a et seq.). Exchange Act Section 12(b) establishes the registration procedures. Section 12(g) and Rule 12g-1 (17 CFR 240.12g-1) under the Exchange Act requires issuers engaged in interstate commerce or in a business affecting interstate commerce, that has total assets of $10,000,000 or more, and a class of equity security held of record by 500 or more persons to register that class of security. The respondents are companies offering securities. The information must be filed with the Commission on occasion. Form 8-A is a public document and filing is mandatory. The form takes approximately 3 hours to prepare and is filed by 1,170 respondents for a total of 3,510 annual burden hours.

An agency may not conduct or sponsor, and a person is not required to respond to, a collection of information unless it displays a currently valid control number.

The public may view the background documentation for this information collection at the following Web site, http://www.reginfo.gov . Comments should be directed to: (i) Desk Officer for the Securities and Exchange Commission, Office of Information and Regulatory Affairs, Office of Management and Budget, Room 10102, New Executive Office Building, Washington, DC 20503, or by sending an e-mail to: Shagufta_Ahmed@omb.eop.gov; and (ii) Thomas Bayer, Director/Chief Information Officer, Securities and Exchange Commission, c/o Remi Pavlik-Simon, 6432 General Green Way, Alexandria, VA 22312 or send an e-mail to: PRA_Mailbox@sec.gov. Comments must be submitted to OMB within 30 days of this notice.

Dated: August 22, 2011.
Elizabeth M. Murphy,
Secretary.

[FR Doc. 2011-21859 Filed 8-25-11; 8:45 am]

BILLING CODE 8011-01-P